DEPARTMENT OF HEALTH AND HUMAN SERVICES

Centers for Disease Control and Prevention

[60Day-18-18ATK; Docket No.CDC-2018-0075]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Understanding multi-sectoral collaboration for strengthening public health capacities in Ethiopia. The goal of this study is to explore multi-sectoral collaboration in Ethiopia, in the context of strengthening public health capacities under the Global Health Security Agenda.

DATES: CDC must receive written comments on or before October 22, 2018.

ADDRESSES: You may submit comments, identified by Docket No. CDC-2018-0075 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Understanding multi-sectoral collaboration for strengthening public health capacities in Ethiopia—New—Office of Public Health Preparedness and Response (OPHPR), Centers for Disease Control and Prevention (CDC).

Background and Brief Description

Countries with poor public health infrastructure are more vulnerable to adverse health outcomes caused by disease outbreaks, natural disasters, and other public health events (Rodier, 2007). The 2013 Ebola outbreak in West Africa highlighted the shortcomings of infrastructure and preparedness plans in the region, and prompted Ministries of Health in affected countries to reexamine capabilities and identify approaches for strengthening them (Heymann, 2015). More recently, the spread of the Zika virus in 2015 through more than twenty countries in the Americas demonstrated that prioritizing efforts to strengthen public health systems and capacities is imperative to mitigating the impact of public health events and improving global health security (Lucey, 2016).

Capacities refer to the abilities and resources of countries to identify and address problems, and carry out functions for public health. Public health emergency preparedness (PHEP) related capacities focus acutely on the resources and infrastructure required for communities and countries to effectively respond to incidents. Zoonotic disease (ZD) related capacities center on minimizing the spread of diseases from animals to humans in domestic, agricultural and wildlife settings.

PHEP and ZD are regarded as cross-cutting technical areas of public health, spanning numerous fields of practice and knowledge necessary to successfully mitigate the impacts of public health events. As a result, multi-sectoral collaboration—a cornerstone of many public health initiatives and programs—is a prominent feature of efforts and plans to strengthen PHEP and ZD capacities. While the importance of multi-sectoral collaboration for health strategies is widely recognized by global health experts and leaders, the evidence base on demonstrated benefits and advantages in public health capacity building is limited. Some research has been carried out to understand aspects of public health capacity strengthening efforts and their impact on global health security; however, it often focuses on high-income countries, such as the United States (U.S.). More research is needed, particularly in low- and middle-income country settings, to understand how collaboration occurs across sectors to implement efforts to strengthen PHEP and ZD capacities and systems, and to gain a deeper understanding of the perspectives of partners involved in the collaboration.

The purpose of the proposed research is to explore how multi-sectoral collaboration occurs for PHEP and ZD related activities implemented under the Global Health Security Agenda (GHSA). The research will employ a multiple-case study design in Ethiopia, focusing on the GHSA technical areas of PHEP and ZD as the cases. The study seeks to understand the landscape of stakeholders engaged in PHEP and ZD related capacity development, and their perspectives on one another's roles and contributions to efforts. This research will also examine stakeholder perceptions on barriers and facilitators to collaboration under GHSA, overall and in each technical area via in-depth interviews. Finally, this study will utilize an adapted questionnaire that measures collaboration across five key domains to foster dialogue between partners on the strength of multi-sectoral collaboration in Ethiopia for GHSA related ZD and PHEP activities. Participants will be able to provide feedback to these questionnaires through a workshop. Research findings will be compared across the two technical areas to understand similarities and differences in stakeholder environments and partner perspectives on collaboration under GHSA; they can also be used to identify opportunities to amplify successes and overcome challenges for stakeholders to collaborate across sectors—in Ethiopia and other countries—to achieve ZD and PHEP goals under GHSA. CDC will disseminate information and findings through presentations, publications, and summary reports to stakeholders and interested members of the public. This research can enrich understanding among stakeholders of one another's perspectives on collaborative efforts, and encourage further dialogue on how to best facilitate multi-sectoral collaboration for broad global agendas such as GHSA, and improved health outcomes overall. CDC is requesting a two year approval for this information collection. Information collection activities will begin approximately one month after OMB approval.

The total estimated cost to respondents for their participation in this proposed information collection is $12,483.20. The total estimated burden to respondents is 320 hours.

Estimated Annualized Burden Hours
Type of respondents | Form name | Number of respondents | Number of responses per respondent | Average burden per response (in hours) | Total burden (in hours)
Emergency Management Directors | In-depth interviews | 80 | 1 | 1 | 80
Emergency Management Directors | Questionnaire | 80 | 1 | 1 | 80
Emergency Management Directors | Questionnaire Feedback | 40 | 1 | 4 | 160
Total |  |  |  |  | 320

Jeffrey M. Zirger,
Chief, Information Collection Review Office, Office of Scientific Integrity, Office of the Associate Director for Science, Office of the Director, Centers for Disease Control and Prevention.

[FR Doc. 2018-18179 Filed 8-22-18; 8:45 am]

BILLING CODE 4163-18-P